DEPARTMENT OF HEALTH AND HUMAN SERIVCES

National Institutes of Health

Center for Scientific Review; Amended Notice of Meeting

Notice is hereby given of a change in the meeting of the Neural Degenerative Disorders and Glial Biology Study Section, October 4, 2006, 8 a.m. to October 5, 2006, 4 p.m., Wyndham Washington, DC, 1400 M Street, NW., Washington, DC, 20005 which was published in the Federal Register on September 7, 2006, 71 FR 52809-52810.

The meeting will be held at the Hyatt Regency Bethesda, One Bethesda Metro Center, 7400 Wisconsin Avenue, Bethesda, MD 20814. The meeting dates and time remain the same. The meeting is closed to the public.

Dated: September 14, 2006.
Anna Snouffer,
Acting Director, Office of Federal Advisory Committee Policy.

[FR Doc. 06-8093 Filed 9-21-06; 8:45 am]

BILLING CODE 4140-01-M